DEPARTMENT OF THE INTERIOR

Fish and Wildlife Service

[FWS-R1-ES-2018-N089; FXES11140100000-189-FF01E00000]

Endangered and Threatened Wildlife and Plants; Capitol Boulevard Infrastructure Improvements Habitat Conservation Plan and Environmental Assessment for the Olympia Subspecies of the Mazama Pocket Gopher, Thurston County, Washington

AGENCY: Fish and Wildlife Service, Interior.

ACTION: Notice of availability; request for comments.

SUMMARY: We, the U.S. Fish and Wildlife Service (Service), received an application from the City of Tumwater Public Works Department for an incidental take permit (ITP) pursuant to the Endangered Species Act. The application includes a habitat conservation plan (HCP), which describes the actions the applicant will take to minimize and mitigate the impacts of the taking of the threatened Olympia subspecies of the Mazama pocket gopher that may occur incidental to the otherwise lawful activities during construction of safety and infrastructure improvements at the intersection of Capitol Boulevard and Tumwater Boulevard in Tumwater, Washington. We also announce the availability of a draft environmental assessment addressing the HCP and proposed permit. We invite the public to review and comment on the documents.

DATES: To ensure consideration, please submit written comments by January 25, 2019.

ADDRESSES: To request further information or submit written comments, please use one of the following methods:

• Internet: You may view or download copies of the HCP and draft EA and obtain additional information on the internet at http://www.fws.gov/wafwo/.

• Email: wfwocomments@fws.gov. Include “City of Tumwater Capitol Boulevard Safety and Infrastructure Improvements HCP/EA” in the subject line of the message.

• U.S. Mail: Public Comments Processing, Attn: FWS-R1-ES-2018-N089; U.S. Fish and Wildlife Service, Washington Fish and Wildlife Office, 510 Desmond Drive SE, Suite 102, Lacey, WA 98503.

• In-Person Drop-off, Viewing, or Pickup: Call 360-753-5823 to make an appointment (necessary for viewing or picking up documents only) during regular business hours at the above address.

FOR FURTHER INFORMATION CONTACT: Tim Romanski, Conservation Planning and Hydropower Branch Manager, Washington Fish and Wildlife Office (see ADDRESSES); telephone: 360-753-5823. If you use a telecommunications device for the deaf, please call the Federal Relay Service at 800-877-8339.

SUPPLEMENTARY INFORMATION: The Service received an application from the City of Tumwater Public Works Department for an ITP, pursuant to the section 10(a)(1)(B) of the ESA. The applicant has requested a 5-year permit term that would authorize “take” of the threatened Olympia subspecies of the Mazama pocket gopher (Thomomys mazama pugetensis, hereafter Olympia pocket gopher) incidental to construction of safety and infrastructure improvements in Thurston County, Washington. The application includes a HCP that describes the actions the applicant will take to minimize and mitigate the impacts of the taking on the covered species.

Background

Section 9 of the Endangered Species Act (ESA; 16 U.S.C. 1531 et seq.) prohibits “take” of fish and wildlife species listed as endangered or threatened. Under the ESA, the term “take” means to harass, harm, pursue, hunt, shoot, wound, kill, trap, capture, or collect, or to attempt to engage in any such conduct (16 U.S.C. 1532(19)). The term “harm,” as defined in our regulations, includes significant habitat modification or degradation that results in death or injury to listed species by significantly impairing essential behavioral patterns, including breeding, feeding, or sheltering (50 CFR 17.3). The term “harass” is defined in our regulations as to carry out actions that create the likelihood of injury to listed species to such an extent as to significantly disrupt normal behavioral patterns, which include, but are not limited to, breeding, feeding, or sheltering (50 CFR 17.3).

Section 10(a)(1)(B) of the ESA contains provisions that authorize the Service to issue permits to non-Federal entities for the take of endangered and threatened species caused by otherwise lawful activities, provided the following criteria are met: (1) The taking will be incidental; (2) the applicant will, to the maximum extent practicable, minimize and mitigate the impact of such taking; (3) the applicant will ensure that adequate funding for the plan will be provided; (4) the taking will not appreciably reduce the likelihood of the survival and recovery of the species in the wild; and (5) the applicant will carry out any other measures that the Service may require as being necessary or appropriate for the purposes of the HCP. Regulations governing permits for endangered and threatened species are found in 50 CFR 17.22 and 17.32, respectively.

Proposed Action

The Service proposes to issue the requested 5-year ITP based on the applicant's commitment to implement the HCP, if permit issuance criteria are met. Covered activities include construction of needed safety and infrastructure improvements. The area covered under HCP consists of a 3-acre project development site located at the intersection of Capitol Boulevard and Tumwater Boulevard in Thurston County, Washington. Take of the Olympia pocket gopher would occur on approximately 0.8 acres of occupied habitat and will be offset by permanent management of 0.8 acres of occupied habitat for the covered species at the Deschutes Corridor Conservation Site.

Public Comments

You may submit your comments and materials by one of the methods listed in ADDRESSES. We specifically request information, views, and suggestions from interested parties regarding our proposed Federal action, including the adequacy of the HCP pursuant to the requirements for permits at 50 CFR parts 13 and 17 and the adequacy of the draft EA pursuant to the requirements of NEPA.

Public Availability of Comments

All comments and materials we receive become part of the public record associated with this action. Before including your address, phone number, email address, or other personally identifiable information in your comments, you should be aware that your entire comment—including your personally identifiable information—may be made publicly available at any time. While you can ask us in your comment to withhold your personally identifiable information from public review, we cannot guarantee that we will be able to do so. All submissions from organizations or businesses, and from individuals identifying themselves as representatives or officials of organizations or businesses, will be made available for public disclosure in their entirety. Comments and materials we receive will be available for public inspection by appointment, during normal business hours, at our Washington Fish and Wildlife Office (see ADDRESSES).

Next Steps

After public review and completion of the EA, we will determine whether the proposed action warrants a finding of no significant impact or whether an environmental impact statement should be prepared. We will evaluate the permit application, associated documents, and any comments received, to determine whether the permit application meets the requirements of section 10(a)(1)(B) of the ESA. We will also evaluate whether issuance of the requested section 10(a)(1)(B) permit would comply with section 7 of the ESA by conducting an intra-Service section 7 consultation under section 7(a)(2) of the ESA on anticipated ITP actions. The final NEPA and permit determinations will not be completed until after the end of the 30-day comment period and will fully consider all comments received during the comment period. If we determine that all requirements are met, we will issue an ITP under section 10(a)(1)(B) of the ESA to the applicant for the take of the covered species, incidental to otherwise lawful covered activities.

Authority

We provide this notice in accordance with the requirements of section 10 of the ESA and NEPA and their implementing regulations (50 CFR 17.22 and 40 CFR 1506.6, respectively).

Theresa E. Rabot,
Deputy Regional Director, Pacific Region, U.S. Fish and Wildlife Service.

[FR Doc. 2018-27887 Filed 12-21-18; 8:45 am]

BILLING CODE 4333-15-P